NATIONAL SCIENCE FOUNDATION

Notice of Intent To Seek Approval To Establish an Information Collection

AGENCY: National Science Foundation.

ACTION: Notice and Request for Comments.

SUMMARY: In compliance with the requirement of Section 3506(c)(2)(A) of the Paperwork Reduction Act of 1995 for opportunity for public comment on proposed data collection projects, the National Science Foundation (NSF) will publish periodic summaries of proposed projects.

DATES: Written comments on this notice must be received by August 5, 2011 to be assured of consideration. Comments received after that date will be considered to the extent practicable.

FOR ADDITIONAL INFORMATION OR COMMENTS: Contact Suzanne Plimpton, Acting Reports Clearance Officer, National Science Foundation, 4201 Wilson Boulevard, Suite 295, Arlington, Virginia 22230; telephone 703-292-7556; or send e-mail to splimpto@nsf.gov. Individuals who use telecommunications device for the deaf (TDD) may call the Federal Information Relay Service (FIRS) at 1-800-877-8339 between 8 a.m. to 8 p.m., Eastern Time, Monday through Friday. You also may obtain a copy of the data collection instrument and instructions from Suzanne Plimpton.

SUPPLEMENTARY INFORMATION: Title of Collection: National Evaluation of the Alliances for Graduate Education and the Professoriate, program survey and interview and focus group protocols.

OMB Approval Number: 3145-New.

Expiration Date of Approval: Not applicable.

Type of Request: Intent to seek approval to establish an information collection for three years.

Proposed Project: The Division of Human Resource Development of the Education and Human Resources Directorate (EHR/HRD) of the National Science Foundation has requested information on the Alliances for Graduate Education and the Professoriate (AGEP) Program. Funded by NSF, the AGEP Program currently funds 17 alliances of postsecondary institutions to promote the participation of underrepresented minority students in PhD programs in the fields of science, technology, engineering and mathematics (STEM). The ultimate goal of the program is to increase the number of underrepresented minorities in these fields who enter the professoriate. NSF seeks information from participants—that is, staff, students and faculty—to determine what influence the program has had on minority graduate students' decisions to enroll in and graduate from STEM doctoral programs and enter the professoriate. NSF proposes a longitudinal approach to the evaluation that includes analysis of extant data sources (e.g., Survey of Earned Doctorates), virtual site visits with AGEP institutions, and a program survey. The virtual site visits will include up to 30 PhD granting universities (up to 10 each year in 2011, 2012, and 2013). These site visits include interviews with program staff and focus groups with students and faculty via videoconferencing or phone. The program survey will be completed once by each AGEP-funded institution.

Estimate of Burden for Virtual Site Visits: The Foundation estimates that, on average, 90 minutes will be required to conduct each program staff interview (2 per institution) and 60 minutes will be required for each faculty or student focus group (6 participants per group per institution). The Foundation estimates a total of up to 90 (1.5 hr × 2 × 30) hours to complete all program staff interviews and up to 360 (1hr × 12 × 30) hours to complete all faculty and student focus groups bringing the total burden hours to 450 for all respondents. Visited institutions will be selected based on characteristics (e.g., institution type, student population served, age of alliance, geography) that will allow for a variety of perspectives.

Respondents (Virtual Site Visits): AGEP STEM program staff at 30 AGEP STEM institutions; STEM faculty at 30 AGEP STEM institutions and STEM graduate students at 30 AGEP institutions.

Estimated Total Number of Respondents (Virtual Site Visits): 420 individuals total.

Estimated Total Annual Burden on Respondents: 150 hrs annually.

Estimate of Burden for Program Survey: The Foundation estimates that, on average, 30 minutes will be required to administer a 65 question survey to a program coordinator at each AGEP STEM funded PhD institution. The survey will be administered once to all institutions funded as of May 2013. Respondents from the up to 82 institutions that received NSF AGEP support will be asked to complete this survey once.

Respondents (Surveys): One AGEP STEM program staff member at up to 82 AGEP STEM institutions.

Estimated Total Number of Responses (Surveys): 5,330.

Estimated Total Annual Burden on Respondents: 25 hours in year one for each of the 50 surveys; 8 hours in year two and 8 hours in year three for estimated grantees after spring 2011.

Dated: June 1, 2011.
Suzanne H. Plimpton,
Reports Clearance Officer, National Science Foundation.

[FR Doc. 2011-13904 Filed 6-3-11; 8:45 am]

BILLING CODE 7555-01-P